DEPARTMENT OF THE INTERIOR

Bureau of Land Management

[AK-040-05-1610-DO-087L]

Notice of Intent To Prepare a Resource Management Plan and Environmental Impact Statement, and a Request for Information for the Scoping Process

AGENCY: Bureau of Land Management, Interior.

ACTION: Notice of intent.

SUMMARY: Notice is hereby given that the Bureau of Land Management (BLM), Anchorage Field Office (AFO), Alaska, is initiating a planning effort to prepare the Bay Resource Management Plan (RMP). This planning activity encompasses approximately 3.6 million acres of BLM administered land in the Bristol Bay and Goodnews Bay areas of Alaska. Section 201 and 202 of the Federal Land Policy and Management Act of 1976 (FLPMA: 43 U.S.C. 1711) and the regulations in 43 CFR part 1600 direct this planning effort. The plan will fulfill the needs and obligations set forth by the National Environmental Policy Act (NEPA). As required in 43 CFR 3420.1-2, this notice is also the specific call for coal resource information and identification of areas where there is an interest in future leasing and development of federal coal.

DATES: The scoping comment period will commence with the publication of this notice and will end 90 days after publication. Meetings and comment deadlines will be announced through the local news media, newsletters and a Web site. Comments on issues and planning criteria should be received on or before the end of the scoping period at the address listed below.

ADDRESSES: Written comments should be sent to the Bay Planning Team, BLM-AFO, 6881 Abbott Loop Road, Anchorage, Alaska 99507; or via fax (907) 267-1267. Documents pertinent to this proposal may be examined at the Anchorage Field Office located in Anchorage, Alaska.

FOR FURTHER INFORMATION CONTACT: Interested parties may obtain further information or request to be placed on the mailing list for the Bay Resource Management Plan (RMP) planning effort by contacting Pat McClenahan, RMP Team Leader, (907) 267-1484, or June Bailey, Field Manager, Anchorage Field Office, 6881 Abbott Loop Road, Anchorage, Alaska 99507, (907) 267-1205. The toll-free telephone number is 1-800-478-1263.

SUPPLEMENTARY INFORMATION: The BLM will work closely with interested parties to identify the management decisions that are best suited to the needs of the public. This public process will take into account local, regional, and national needs and concerns. This notice initiates the public scoping process to identify planning issues and to develop planning criteria.

After gathering public comments on the issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping process.

An interdisciplinary approach will be used to develop the plan in order to consider the variety of resource issues and concerns identified. Disciplines involved in the planning process will include specialists with expertise in lands and realty, wildlife, subsistence, fisheries, vegetation, outdoor recreation, fire management, minerals and geology, forestry, archaeology, paleontology, hydrology, soil, sociology and economics. The planning area includes lands adjacent to Bristol Bay and Goodnews Bay on the west side of the Aleutian Range, and extends southward on the Alaska Peninsula to Big Creek, south of South Naknek. Within this area there are approximately 3.6 million acres (surface estate) of BLM-administered lands occurring primarily as blocks of land, with some small scattered tracts. Approximately 979,171 acres have been selected by Native Corporations, and 914,933 acres have been selected by the State of Alaska, but have not been conveyed.

Preliminary issues and management concerns have been identified by BLM and other agencies, and in prior meetings with individuals and user groups. They represent the BLM's knowledge to date on the existing issues and concerns with current management. Some concerns that will be addressed in the planning effort include the management of subsistence; oil and gas; access; locatable minerals; D1 and D2 lands; and Wild and Scenic Rivers.

Public Participation: Public meetings will be held throughout the plan scoping and preparation period. In order to ensure local community participation and input, public meetings will be scheduled in a number of communities within the planning area. Early participation by all of those interested is encouraged and will help determine the future management of lands within the Bay planning area. At least 15 days public notice will be given for activities where the public is invited to attend. The minutes and list of attendees for each meeting will be available to the public and open for 30 days to any participant who wishes to clarify the views they expressed. Written comments will be accepted throughout the planning process at the address shown above.

Freedom of Information Act Considerations: Public comments submitted for this planning effort, including names and street addresses of respondents, will be available for public review at the Anchorage Field Office during regular business hours (7:30 a.m. to 4 p.m.), Monday through Friday, except holidays. All submissions from organizations or businesses, and from individuals identifying themselves as representatives or officials of organizations or businesses, will be made available for public inspection in their entirety. Individual respondents may request confidentiality. If you wish to withhold your name or address from public review or from disclosure under the Freedom of Information Act, you must state this prominently at the beginning of your comments. Such requests will be honored to the extent allowed by law.

June Bailey,
Field Office Manager.

[FR Doc. 04-26725 Filed 12-3-04; 8:45 am]

BILLING CODE 4310-$$-P